DEPARTMENT OF ENERGY

Federal Energy Regulatory Commission

[Project No. 6440-010]

Lakeport Hydroelectric One, LLC and New Hampshire Department of Environmental Services; Notice of Intent To Prepare an Environmental Assessment

On August 30, 2021, Lakeport Hydroelectric One, LLC (Lakeport) and New Hampshire Department of Environmental Services (New Hampshire DES) filed a relicense application for the 600-kilowatt Lakeport Hydroelectric Project No. 6440 (project). The project is located on the Winnipesaukee River in Laconia, Belknap County, New Hampshire.

In accordance with the Commission's regulations, on November 14, 2023, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to relicense the project.

The EA will be issued and circulated for review by all interested parties. All comments filed on the EA will be analyzed by staff and considered in the Commission's final licensing decision.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The application will be processed according to the following schedule. Revisions to the schedule may be made as appropriate.

¹ The Council on Environmental Quality's (CEQ) regulations under 40 CFR 1501.10(b)(1) require that EAs be completed within 1 year of the federal action agency's decision to prepare an EA. This notice establishes the Commission's intent to prepare an EA for the Lakeport Hydroelectric Project. Therefore, in accordance with CEQ's regulations, the EA must be issued within 1 year of the issuance date of this notice.

Milestone | Target date
Commission issues EA | August 2024.¹
Comments on EA | September 2024.

Questions regarding this notice may be directed to Erin Kimsey at (202) 502-8621 or erin.kimsey@ferc.gov.

Dated: January 29, 2024.
Debbie-Anne A. Reese,
Acting Secretary.

[FR Doc. 2024-02100 Filed 2-1-24; 8:45 am]

BILLING CODE 6717-01-P